ENVIRONMENTAL PROTECTION AGENCY

[FRL-9902-70-OEI]

Office of Environmental Information; Pause the Development of the Draft Quality Standard for Environmental Data Collection, Production, and Use by Non-EPA (External) Organizations and Two Associated QA Handbooks

AGENCY: Environmental Protection Agency (EPA).

ACTION: Notice.

SUMMARY: The Environmental Protection Agency published a document in the Federal Register of December 26, 2012, concerning request for comments for the Draft Quality Standard for Environmental Data Collection, Production, and Use by Non-EPA (External) Organizations and two associated QA Handbooks. EPA has decided to pause the development of the draft Quality Standards for Data Collection, Production and Use. This decision was made after careful consideration of the comments received from external stakeholders and discussion with our internal stakeholders.

This pause will allow the Agency to revise the existing EPA Quality Policy and Procedure to integrate the relevant sections of the EPA Order 5360.1, EPA Quality Manual and draft Quality Standards. At the conclusion of this revision, we will revise the draft Quality Standards to align with the revised Quality Policy and Procedure and integrate the relevant sections of our existing QA Requirements documents (R-2, R-5). Throughout the process, EPA plans to solicit input from both internal and external stakeholders and provide frequent status updates. We believe this approach will address many of the concerns raised by our stakeholders during the public comment period for the Quality Standard.

FOR MORE INFORMATION CONTACT: Katherine Chalfant, Environmental Protection Agency; 1200 Pennsylvania Avenue, MC 2811T; Washington, DC 20460; Phone: 202-564-1511; email address: quality@epa.gov.

Monica D. Jones,
Director, Quality Staff.

[FR Doc. 2013-26866 Filed 11-7-13; 8:45 am]

BILLING CODE 6560-50-P